ENVIRONMENTAL PROTECTION AGENCY

[FRL-6977-9]

Agency Information Collection Activities: Submission for OMB Review; Comment Request; Indoor Air Quality Practices in Schools Survey

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Title: Indoor Air Quality Practices in Schools Survey, The ICR describes the nature of the information collection and its expected burden and cost; where appropriate, it includes the actual data collection instrument.

DATES: Comments must be submitted on or before June 13, 2001.

FOR FURTHER INFORMATION contact: For a copy of the ICR contact Sandy Farmer at EPA by phone at (202) 260-2740, by email at farmer.sandy@epamail.epa.gov, or download off the Internet at http://www.epa.gov/icr and refer to EPA ICR No. 1885.01. For technical questions about the ICR contact John Guevin at EPA by phone at (202) 564-9055.

SUPPLEMENTARY INFORMATION: Title: Indoor Air Quality Practices in Schools Survey, EPA ICR No. 1885.01. This is a new collection.

Abstract: As part of its authorization under Title IV of SARA, 1986, EPA has been working to promote more effective approaches for preventing, identifying, and solving indoor air quality (IAQ) problems in schools and has developed low-cost guidance entitled IAQ Tools for Schools for that purpose.

The Indoor Air Quality Practices in Schools Survey will allow EPA to gain information regarding the number of schools that have implemented sound IAQ-management practices, such as those activities recommended in its guidance. These data are essential for measuring the effectiveness of EPA's outreach efforts against the Agency's established GPRA goal. EPA is working towards achieving the implementation of sound IAQ practices in 15 percent (or 16,650) of the nation's public and private schools by 2005.

This survey is voluntary. EPA does not expect to receive confidential information from the schools voluntarily participating in the Survey. However, if a respondent does consider the information submitted to be of a proprietary nature, EPA will assure its confidentiality based on the provisions of 40 CFR Part 2, Subpart B, “Confidentiality of Business Information.”

An agency may not conduct or sponsor, and a person is not required to respond to, a collection of information unless it displays a currently valid OMB control number. The OMB control numbers for EPA's regulations are listed in 40 CFR Part 9 and 48 CFR Chapter 15. The Federal Register document required under 5 CFR 1320.8(d), soliciting comments on this collection of information was published on 10/20/2000 (FR-6886-3); 1 comment was received.

Burden Statement: The annual public reporting and record keeping burden for this collection of information is estimated to average 1.3 hours per response for completing the survey by mail and 0.8 hours per response for completing the survey by telephone. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Public and private elementary and secondary schools operating in the United States.

Estimated Number of Respondents: 1,612.

Frequency of Response: Twice.

Estimated Total Annual Hour Burden: 564 hours.

Estimated Total Annualized Capital and O&M Cost Burden: $0.

Send comments on the Agency's need for this information, the accuracy of the provided burden estimates, and any suggested methods for minimizing respondent burden, including through the use of automated collection techniques to the following addresses. Please refer to EPA ICR No. 1885.01 in any correspondence.

Ms. Sandy Farmer, U.S. Environmental Protection Agency, Office of Environmental Information, Collection Strategies Division (2822), 1200 Pennsylvania Avenue, NW., Washington, DC 20460.

and

Office of Information and Regulatory Affairs, Office of Management and Budget, Attention: Desk Officer for EPA, 725 17th Street, NW., Washington, DC 20503.

Dated: May 3, 2001.
Oscar Morales,
Director, Collection Strategies Division.

[FR Doc. 01-12047 Filed 5-11-01; 8:45 am]

BILLING CODE 6560-50-P